DEPARTMENT OF ENERGY

Federal Energy Regulatory Commission

[Docket No. EC01-1-000, et al.]

Wisconsin Public Service Corporation, et al.; Electric Rate and Corporate Regulation Filings

October 18, 2000.

Take notice that the following filings have been made with the Commission:

1. Wisconsin Public Service Corporation, Consolidated Water Power Company

[Docket No. EC01-1-000]

Take notice that on October 6, 2000, Wisconsin Public Service Corporation (Wisconsin Public Service) and Consolidated Water Power Company (Consolidated) (collectively, the Applicants) filed an application pursuant to section 203 of the Federal Power Act requesting authorization for Wisconsin Public Service to purchase Consolidated's common equity interest in the Wisconsin River Power Company (Wisconsin River). Currently, Wisconsin Public Service owns 33.12 percent of Wisconsin River's common stock, while Consolidated owns 33.76 percent of Wisconsin River's stock. Wisconsin River owns and operates two hydroelectric generation facilities with an aggregate rated capacity of 35 MW.

Comment date: October 30, 2000, in accordance with Standard Paragraph E at the end of this notice.

2. Continental Energy Services, Inc., BBI Power Corporation

[Docket No. EC01-2-000]

Take notice that on October 10, 2000, pursuant to Section 203 of the Federal Power Act and Part 33 of the Commission's regulations, Continental Energy Services, Inc. and BBI Power Corporation filed a joint application for approval of the disposition of Continental's jurisdictional facilities that may result from BBI Power Corporation's proposed acquisition of Continental.

Continental states that the application has been served upon the Public Utility Commission of Texas and the Montana Public Service Commission.

Comment date: October 31, 2000, in accordance with Standard Paragraph E at the end of this notice.

3. FirstEnergy Trading Services, Inc., FirstEnergy Services, Inc.

[Docket Nos. EC01-3-000 and ER01-103-000]

Take notice that on October 11, 2000, FirstEnergy Trading Services, Inc. and FirstEnergy Services, Inc. tendered for filing pursuant to Sections 203 and 205 of the Federal Power Act and the Federal Energy Regulatory Commission's regulations thereunder an Application of FirstEnergy Trading Services, Inc. for Authority to Merge Into FirstEnergy Services, Inc. and Related Transactions. The Application included a proposed Market-Based Rate Power Sales Tariff of FirstEnergy Services, Inc. to become effective upon consummation of the merger.

Comment date: November 1, 2000, in accordance with Standard Paragraph E at the end of this notice.

4. Consumers Energy Company, Michigan Electric Transmission Company

[Docket No. EC01-4-000]

Take notice that on October 13, 2000, Consumers Energy Company (Consumers) and Michigan Electric Transmission Company (Michigan Transco) (collectively, Applicants), tendered for filing an application under Section 203 of the Federal Power Act petitioning the Commission for all authorizations necessary for Consumers to transfer to Michigan Transco 100 percent of its ownership interest in all of its electric transmission assets, and for Michigan Transco to acquire and operate the same. Applicants state that the proposed transfer of facilities to Michigan Transco, a wholly owned subsidiary of Consumers, is the first step in Consumers' plan to transfer control of, or to divest itself of ownership, operation and control of, its transmission assets to an unaffiliated third party.

Comment date: November 3, 2000, in accordance with Standard Paragraph E at the end of this notice.

5. New York Independent System Operator, Inc.

[Docket No. ER01-94-000]

Take notice that on October 11, 2000, the New York Independent System Operator, Inc. (NYISO), requested an extension of Temporary Extraordinary Procedures for Correcting Market Design Flaws and Addressing Transitional Abnormalities.

The NYISO requests an effective date of November 1, 2000 and waiver of the Commission's notice requirements.

A copy of this filing was served upon all persons on the Commission's official service list in Docket No. ER00-2624-000, on those parties who have executed service agreements under the NYISO Open Access Transmission Tariff or under the New York Independent System Operator Market Administration and Control Area Services Tariff and on the electric utility regulatory agencies in New York, New Jersey and Pennsylvania.

Comment date: November 1, 2000, in accordance with Standard Paragraph E at the end of this notice.

6. Milford Power Limited Partnership

[Docket Nos. ER93-493-009 and ER99-3793-000]

Take notice that on October 13, 2000, Milford Power Limited Partnership (Milford), tendered for filing a supplement to its Semi-Annual Service Agreement Reports in the above-referenced docket.

Comment date: November 3, 2000, in accordance with Standard Paragraph E at the end of this notice.

7. California Independent System Operator Corporation

[Docket Nos. EC96-19-055 and ER96-1663-058]

Take notice that on October 13, 2000, the California Independent System Operator Corporation (ISO) tendered for filing First Replacement Volume Nos. I and II of its FERC Electric Tariff in compliance with Order No. 614, issued on March 31, 2000 in Docket No. RM99-12, Designation of Electric Rate Schedule Sheets, FERC Stats. & Regs. ¶ 31,096 (2000).

The ISO states that this filing has been served upon the Public Utilities Commission of California, the California Energy Commission, the California Electricity Oversight Board, and all parties with effective Scheduling Coordinator Service Agreements under the ISO Tariff.

Comment date: November 3, 2000, in accordance with Standard Paragraph E at the end of this notice.

8. Maine Public Service Company

[Docket No. ER00-1053-003]

Take notice that on October 13, 2000, Maine Public Service Company (MPS), as required by the September 15, 2000 order in Docket Nos. ER00-1053-000 and ER00-1053-002, Maine Pub. Serv. Co., 92 FERC ¶ 61,208 (2000), submitted its open access transmission tariff in a format that complies with Order No. 614.

Copies of this filing were served on all affected state commissions and all parties on the service list in Docket Nos. ER00-1053-000 and ER00-1053-002.

Comment date: November 3, 2000, in accordance with Standard Paragraph E at the end of this notice.

9. Enron Energy Marketing Corp.

[Docket No. ER00-3330-001]

Take notice that on October 13, 2000, Enron Energy Marketing Corp., tendered for filing a compliance filing including appropriate rate schedule designations for its revised FERC Rate Schedule No. 1 and accompanying Code of Conduct related to the Notice of Succession filed with the Commission on July 31, 2000, and conditionally accepted by the Commission, in Enron Energy Marketing Corp., Docket No. ER00-3330-000. As part of the compliance filing, references to Pacific Gas & Electric Company (PG&E) were removed because PG&E is not a utility affiliate of Enron Energy Marketing Corp.

Comment date: November 3, 2000, in accordance with Standard Paragraph E at the end of this notice.

10. Louisville Gas And Electric Company/Kentucky Utilities Company

[Docket No. ER00-3363-001]

Take notice that on October 12, 2000, Louisville Gas and Electric Company (LG&E) and Kentucky Utilities Company (KU) (hereinafter the Companies), tendered for filing a revised executed Delivery Scheduling and Balancing Agreement between the Companies and The Legacy Energy Group, LLC, to meet the service agreement designations as required in Order No. 614, FERC Stats. & Regs. ¶ 31,096 (2000).

Comment date: November 2, 2000, in accordance with Standard Paragraph E at the end of this notice.

11. New England Power Pool

[Docket Nos. OA97-237-000, OA97-608-000, ER97-1079-000, ER97-4421-000, ER97-3574-000, and ER98-499-000]

Take notice that on October 12, 2000, the New England Power Pool (NEPOOL) Participants Committee tendered for filing supplemental informational relating to rate surcharges determined in accordance with formula rates of the NEPOOL Open Access Transmission Tariff. The materials filed on October 12, 2000 supplement certain aspects, and correct certain other aspects, of NEPOOL's July 28, 2000 informational filing. The July 28, 2000 informational filing described the transmission charges that are in effect for the twelve month period commencing June 1, 2000. Both filings are made pursuant to the terms of the April 5, 1999 settlement agreement in the above-captioned dockets.

The NEPOOL Participants Committee states that copies of these materials were sent to the New England state governors and regulatory commissions, and the NEPOOL Participants.

Comment date: November 2, 2000, in accordance with Standard Paragraph E at the end of this notice.

12. Carolina Power & Light Company

[Docket No. ER01-100-000]

Take notice that on October 12, 2000, Carolina Power & Light Company (CP&L), tendered for filing an executed Service Agreement between CP&L and PPL EnergyPlus, LLC. Service to this eligible buyer will be in accordance with the terms and conditions of CP&L's Market-Based Rates Tariff, FERC Electric Tariff No. 4, for sales of capacity and energy at market-based rates.

CP&L requests an effective date of October 4, 2000 for this Service Agreement.

Copies of the filing were served upon the North Carolina Utilities Commission and the South Carolina Public Service Commission.

Comment date: November 2, 2000, in accordance with Standard Paragraph E at the end of this notice.

13. Mid-Continent Area Power Pool

[Docket No. ER01-104-000]

Take notice that on October 12, 2000, the Mid-Continent Area Power Pool (MAPP), on behalf of its members that are subject to Commission jurisdiction as public utilities under Section 201(e) of the Federal Power Act, filed an amendment to Schedule F (FERC Electric Tariff, First Revised Volume No. 1) that would clarify Section 2 regarding rollover rights.

A copy of this filing has been served on all MAPP members, Schedule F customers and the state commissions in the MAPP region.

Comment date: November 2, 2000, in accordance with Standard Paragraph E at the end of this notice.

14. Mid-Continent Area Power Pool

[Docket No. ER01-105-000]

Take notice that on October 12, 2000, the Mid-Continent Area Power Pool (MAPP), on behalf of its members that are subject to Commission jurisdiction as public utilities under Section 201(e) of the Federal Power Act, filed certain amendments to Schedule F (FERC Electric Tariff, First Revised Volume No. 1) related to the scheduling and reservation provisions.

A copy of this filing has been served on all MAPP members, Schedule F customers and the state commissions in the MAPP region.

Comment date: November 2, 2000, in accordance with Standard Paragraph E at the end of this notice.

15. Pinnacle West Capital Corporation

[Docket No. ER01-106-000]

Take notice that on October 12, 2000, Pinnacle West Capital Corporation (PWCC), tendered for filing a Service Agreement, Rate Schedule FERC No. 3, under PWCC's Rate Schedule FERC No. 1 for service to Arizona Public Service Company (APS).

A copy of this filing has been served on the Arizona Corporation Commission and APS.

Comment date: November 2, 2000, in accordance with Standard Paragraph E at the end of this notice.

16. Arizona Public Service Company

[Docket No. ER01-107-000]

Take notice that on October 12, 2000, Arizona Public Service Company (APS), tendered for filing a Service Agreement No. 58 under APS’ FERC Electric Tariff, Original Volume No. 3 for service to Pinnacle West Capital Corporation (PWCC).

A copy of this filing has been served on the Arizona Corporation Commission and PWCC.

Comment date: November 2, 2000, in accordance with Standard Paragraph E at the end of this notice.

17. Tucson Electric Power Company

[Docket No. ER01-108-000]

Take notice that on October 12, 2000, Tucson Electric Power Company tendered for filing one (1) umbrella service agreement (for short-term firm service) and one (1) service agreement (for non-firm service) pursuant to Part II of Tucson's Open Access Transmission Tariff, which was filed in Docket No. ER00-771-000.

In compliance with Order No. 614, Tucson submits an Umbrella Agreement for Short-Term Firm Point-to-Point Transmission Service dated as of October 5, 2000 by and between Tucson Electric Power Company and Public Service Company of Colorado—FERC Electric Tariff Vol. No. 2, Service Agreement No. 142. No service has commenced at this time.

Tucson also submits a Form of Service Agreement for Non-Firm Point-to-Point Transmission Service dated as October 5, 2000 by and between Tucson Electric Power Company and Public Service Company of Colorado—FERC Electric Tariff Vol. No. 2, Service Agreement No. 143. No service has commenced at this time.

Comment date: November 2, 2000, in accordance with Standard Paragraph E at the end of this notice.

18. Ameren Services Company

[Docket No. ER01-109-000]

Take notice that on October 12, 2000, Ameren Services Company (ASC), tendered for filing Service Agreements for Firm Point-to-Point Transmission Service between ASC and Ameren Energy, as Agent for Ameren Services Company. ASC asserts that the purpose of the Agreements is to permit ASC to provide transmission service to Ameren Energy, as Agent for Ameren Services Company pursuant to Ameren's Open Access Transmission Tariff.

Comment date: November 2, 2000, in accordance with Standard Paragraph E at the end of this notice.

19. Cinergy Services, Inc.

[Docket No. ER01-110-000]

Take notice that on October 13, 2000, Cinergy Services, Inc. (Cinergy) and The Village of Bethel, Ohio tendered for filing a request for cancellation of Service Agreement No. 16, under The Cincinnati Gas & Electric Company, FERC Electric Tariff Original Volume No. 1.

Cinergy requests an effective date of January 31, 2001.

Comment date: November 3, 2000, in accordance with Standard Paragraph E at the end of this notice.

20. Cinergy Services, Inc.

[Docket No. ER01-112-000]

Take notice that on October 13, 2000, Cinergy Services, Inc. (Cinergy) and The Village of Blanchester, Ohio tendered for filing a request for cancellation of Service Agreement No. 17, under The Cincinnati Gas & Electric Company, FERC Electric Tariff Original Volume No. 1.

Cinergy requests an effective date of December 31, 2000.

Comment date: November 2, 2000, in accordance with Standard Paragraph E at the end of this notice.

21. Cinergy Services, Inc.

[Docket No. ER01-113-000]

Take notice that on October 13, 2000, Cinergy Services, Inc. (Cinergy) and The Village of Georgetown, Ohio are requesting a cancellation of Service Agreement No. 18, under The Cincinnati Gas & Electric Company, FERC Electric Tariff Original Volume No. 1.

Cinergy requests an effective date of December 31, 2000.

Comment date: November 2, 2000, in accordance with Standard Paragraph E at the end of this notice.

22. Cinergy Services, Inc.

[Docket No. ER01-114-000]

Take notice that on October 13, 2000, Cinergy Services, Inc. (Cinergy) and The Village of Ripley, Ohio tendered for filing a request for cancellation of Service Agreement No. 20, under The Cincinnati Gas & Electric Company, FERC Electric Tariff Original Volume No. 1.

Cinergy requests an effective date of January 31, 2001.

Comment date: November 3, 2000, in accordance with Standard Paragraph E at the end of this notice.

23. Cinergy Services, Inc.

[Docket No. ER01-115-000]

Take notice that on October 13, 2000, Cinergy Services, Inc. (Cinergy) and The Village of Hamersville, Ohio tendered for filing a request for cancellation of Service Agreement No. 19, under The Cincinnati Gas & Electric Company, FERC Electric Tariff Original Volume No. 1.

Cinergy requests an effective date of January 31, 2001.

Comment date: November 3, 2000, in accordance with Standard Paragraph E at the end of this notice.

24. Cinergy Services, Inc.

[Docket No. ER01-116-000]

Take notice that on October 13, 2000, Cinergy Services, Inc. (Cinergy) and Continental Energy Services, LLC are requesting a cancellation of Service Agreement No. 38, under Cinergy Operating Companies, Resale of Transmission Rights and Ancillary Service Rights, FERC Electric Tariff Original Volume No. 8.

Cinergy requests an effective date of October 9, 2000.

Comment date: November 3, 2000, in accordance with Standard Paragraph E at the end of this notice.

25. Ameren Services Company

[Docket No. ER01-117-000]

Take notice that on October 12, 2000, Ameren Services Company (Ameren Services), tendered for filing a Network Operating Agreement and a Service Agreement for Retail Network Integration Transmission Service between Ameren Services and Central Illinois Light Company (CILCO). Ameren Services asserts that the purpose of the Agreements is to permit Ameren Services to provide transmission service to Central Illinois Light Company (CILCO) pursuant to Ameren's Open Access Tariff.

Comment date: November 2, 2000, in accordance with Standard Paragraph E at the end of this notice.

26. Wisconsin Public Service Corporation

[Docket No. ER01-118-000]

Take notice that on October 13, 2000, Wisconsin Public Service Corporation (WPSC), tendered for filing Supplement No. 5 to its partial requirements service agreement with Washington Island Electric Cooperative (WIEC), Door County, Wisconsin. Supplement No. 5 provides WIEC's contract demand nominations for January 2001-December 2005, under WPSC's W-2A partial requirements tariff and WIEC's applicable service agreement.

The company states that copies of this filing have been served upon WIEC and to the State Commissions where WPSC serves at retail.

Comment date: November 3, 2000, in accordance with Standard Paragraph E at the end of this notice.

27. Virginia Electric and Power Company

[Docket No. ER01-119-000]

Take notice that on October 13, 2000, Virginia Electric and Power Company (Dominion Virginia Power or the Company), tendered for filing the following:

Service Agreement for Firm Point-to-Point Transmission Service by Virginia Electric and Power Company to Southern Company Energy Marketing L.P., designated as Service Agreement No. 305 under the Company's Retail Access Pilot Program, pursuant to Attachment L of the Company's Open Access Transmission Tariff, FERC Electric Tariff, Second Revised Volume No. 5, to Eligible Purchasers effective June 7, 2000.

Dominion Virginia Power requests an effective date of October 13, 2000, the date of filing of the Service Agreements.

Copies of the filing were served upon Southern Company Energy Marketing L.P., the Virginia State Corporation Commission, and the North Carolina Utilities Commission.

Comment date: November 3, 2000, in accordance with Standard Paragraph E at the end of this notice.

28. New York State Electric & Gas Corporation

[Docket No. ER01-120-000]

Take notice that on October 13, 2000, New York State Electric & Gas Corporation (NYSEG), tendered for filing as an initial rate schedule pursuant to Part 35 of the Federal Energy Regulatory Commission's Regulations, 18 CFR Part 35, an Interconnection Agreement (IA) with Consolidated Hydro New York, Inc., (Consolidated Hydro). The IA provides for interconnection service to Consolidated Hydro at the rates, terms, charges, and conditions set forth therein.

NYSEG is requesting that the IA become effective as of October 14, 2000.

Copies of this filing have been served upon the New York State Public Service Commission, Consolidated Hydro and the New York Independent System Operator, Inc.

Comment date: November 3, 2000, in accordance with Standard Paragraph E at the end of this notice.

29. Allegheny Energy Service Corporation on behalf of Allegheny Energy Supply Company, LLC

[Docket No. ER01-121-000]

Take notice that on October 12, 2000, Allegheny Energy Service Corporation on behalf of Allegheny Energy Supply Company, LLC (Allegheny Energy Supply), tendered for filing Service Agreement No. 96 to add one (1) new Customer to the Market Rate Tariff under which Allegheny Energy Supply offers generation services.

Allegheny Energy Supply requests a waiver of notice requirements for an effective date of September 11, 2000 for Oglethorpe Power Corporation.

Copies of the filing have been provided to the Public Utilities Commission of Ohio, the Pennsylvania Public Utility Commission, the Maryland Public Service Commission, the Virginia State Corporation Commission, the West Virginia Public Service Commission, and all parties of record.

Comment date: November 2, 2000, in accordance with Standard Paragraph E at the end of this notice.

30. Allegheny Energy Service Corporation on behalf of Allegheny Energy Supply Company, LLC

[Docket No. ER01-122-000]

Take notice that on October 12, 2000, Allegheny Energy Service Corporation on behalf of Allegheny Energy Supply Company, LLC (Allegheny Energy Supply), tendered for filing Service Agreement No. 97 to add one (1) new Customer to the Market Rate Tariff under which Allegheny Energy Supply offers generation services.

Allegheny Energy Supply requests a waiver of notice requirements for an effective date of September 11, 2000 for Edison Mission Marketing & Trading, Inc.

Copies of the filing have been provided to the Public Utilities Commission of Ohio, the Pennsylvania Public Utility Commission, the Maryland Public Service Commission, the Virginia State Corporation Commission, the West Virginia Public Service Commission, and all parties of record.

Comment date: November 2, 2000, in accordance with Standard Paragraph E at the end of this notice.

31. Dynegy Inc., and Illinois Power Company

[Docket No. ER01-123-000]

Take notice that on October 13, 2000, Dynegy Inc. (Dynegy), tendered for filing a letter providing notice of withdrawal and requesting approval of the withdrawal of the Illinois Power Company from the Midwest Independent System Operator, Inc., effective November 1, 2001.

Dynegy states that copies of this filing were mailed to each person on the official service list in this proceeding and to affected state regulatory agencies.

Comment date: November 3, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance). Beginning November 1, 2000, comments and protests may be filed electronically via the internet in lieu of paper. See, 18 CFE 385.2001(a)(1)(iii) and the instructions on the Commission's web site at http://www.ferc.fed.us/efi/doorbell.htm.

David P. Boergers
Secretary.

[FR Doc. 00-27335 Filed 10-24-00; 8:45 am]

BILLING CODE 6717-01-P